DEPARTMENT OF ENERGY

Federal Energy Regulatory Commission

[Project/Docket No. 190-106]

Moon Lake Electric Association, Inc.; Notice of Reasonable Period of Time for Water Quality Certification Application

On June 13, 2025, the Environmental Protection Agency submitted to the Federal Energy Regulatory Commission (Commission) notice that it received a request for a Clean Water Act section 401(a)(1) water quality certification as defined in 40 CFR 121.5, from Moon Lake Electric Association, Inc., in conjunction with the above captioned project on April 28, 2025. Pursuant to the Commission's regulations,¹ we hereby notify the Environmental Protection Agency of the following:

¹ 18 CFR 6.1(b).

Date of Receipt of the Certification Request: April 28, 2025.

Reasonable Period of Time to Act on the Certification Request: April 28, 2026.

If the Environmental Protection Agency fails or refuses to act on the water quality certification request on or before the above date, then the certifying authority is deemed waived pursuant to section 401(a)(1) of the Clean Water Act, 33 U.S.C. 1341(a)(1).

Dated: September 12, 2025.
Debbie-Anne A. Reese,
Secretary.

[FR Doc. 2025-17994 Filed 9-16-25; 8:45 am]

BILLING CODE 6717-01-P